DEPARTMENT OF LABOR

Employment and Training Administration

[TA-W-81,317]

Dana Holding Corporation, Power Technologies Group Division, Including On-Site Leased Workers From Manpower, Milwaukee, WI; Notice of Affirmative Determination Regarding Application for Reconsideration

By application dated June 28, 2012 (received on July 6, 2012), the United Autoworkers Union requested administrative reconsideration of the negative determination regarding workers' eligibility to apply for Trade Adjustment Assistance (TAA) applicable to workers and former workers of Dana Holding Corporation, Power Technologies Group Division, Milwaukee, Wisconsin (subject firm). The negative determination was issued on April 30, 2012, and the Department's Notice of Determination will soon be published in the Federal Register.

The initial investigation resulted in a negative determination based on the findings that the subject firm did not shift production of gaskets and exhausts to a foreign country nor did the subject firm or its customers increase reliance on imports during the relevant period.

The request for reconsideration alleged that increased aggregate imports of gaskets (and like and directly competitive articles) in 2011 and 2012, loss of business with a firm that employed a worker group eligible to apply for TAA, and increased imports of finished articles containing foreign-produced component parts like or directly competitive with the gaskets and exhausts produced by workers at the subject firm, contributed importantly to worker separations at the subject firm.

The Department has carefully reviewed the request for reconsideration and the existing record and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 8th day of August, 2012.
Del Min Amy Chen,
Certifying Officer, Office of Trade Adjustment Assistance.

[FR Doc. 2012-20767 Filed 8-22-12; 8:45 am]

BILLING CODE 4510-FN-P